DEPARTMENT OF VETERANS AFFAIRS

[OMB Control No. 2900-0205]

Agency Information Collection Activities Under OMB Review

AGENCY: Veterans Health Administration, Department of Veterans Affairs.

ACTION: Notice.

SUMMARY: In compliance with the Paperwork Reduction Act (PRA) of 1995 (44 U.S.C., 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before March 5, 2003.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0205.”

Send comments and recommendations concerning any aspect of the information collection to VA's OMB Desk Officer, OMB Human Resources and Housing Branch, New Executive Office Building, Room 10235, Washington, DC 20503 (202) 395-7316. Please refer to “OMB Control No. 2900-0205” in any correspondence.

SUPPLEMENTARY INFORMATION: Titles:

a. VA Form 10-2850, Application for Physicians, Dentists, Podiatrists and Optometrists.

b. VA Form 10-2850a, Application for Nurses and Nurse Anesthetists.

c. VA Form 10-2850b, Application for Residents.

d. VA Form 10-2850c, Application for Associated Health Occupations.

e. VA Form FL 10-341a, Appraisal of Applicant.

OMB Control Number: 2900-0205.

Type of Review: Extension of a currently approved collection.

Abstract: VA Forms 10-2850 and 10-2850a through c are applications designed specifically to elicit appropriate information about each candidate's qualifications for employment with VA. VHA officials use the information to evaluate education, professional experience and credentials and to determine suitability and grade level of applications of physicians, dentists, podiatrists, optometrists, nurses and nurse anesthetists, residents, and associated health occupations, and appraisal of applicants. The forms require disclosure of details about all licenses ever held, Drug Enforcement Administration certification, board certification, clinical privileges, revoked certification or registrations, liability insurance history, and involvement in malpractice proceedings. Form Letter 10-341a is a pre employment reference form used to elicit information concerning the prior education and/or performance of the Title 38 applicant.

An agency may not conduct or sponsor, and a person is not required to respond to a collection of information unless it displays a currently valid OMB control number. The Federal Register Notice with a 60-day comment period soliciting comments on this collection of information was published on October 15, 2002, at pages 63733—63734.

Affected Public: Individuals or Households, Business or other for-profit, Not-for-profit institutions, Federal Government, State, Local or Tribal Government.

Estimated Annual Burden: 75,471 hours.

a. VA Form 10-2850, Application for Physicians, Dentists, Podiatrists and Optometrists—7,095 hours.

b. VA Form 10-2850a, Application for Nurses and Nurse Anesthetists—28,380 hours.

c. VA Form 10-2850b, Application for Residents—15,136 hours.

d. VA Form 10-2850c, Application for Associated Health Occupations—9,460 hours.

e. VA Form FL 10-341a, Appraisal of Applicant—15,400 hours.

Estimated Average Burden Per Respondent: 27 minutes.

a. VA Form 10-2850, Application for Physicians, Dentists, Podiatrists and Optometrists—30 minutes.

b. VA Form 10-2850a, Application for Nurses and Nurse Anesthetists—30 minutes.

c. VA Form 10-2850b, Application for Residents—30 minutes.

d. VA Form 10-2850c, Application for Associated Health Occupations—30 minutes.

e. VA Form FL 10-341a, Appraisal of Applicant—20 minutes.

Frequency of Response: On Occasion.

Estimated Number of Respondents: 166,342.

a. VA Form 10-2850, Application for Physicians, Dentists, Podiatrists and Optometrists—14,190.

b. VA Form 10-2850a, Application for Nurses and Nurse Anesthetists—56,760.

c. VA Form 10-2850b, Application for Residents—30,272.

d. VA Form 10-2850c, Application for Associated Health Occupations—18,920.

e. VA Form FL 10-341a, Appraisal of Applicant—46,200.

Dated: January 14, 2003.
By direction of the Secretary.
Loise A. Russell,
Acting Director, Records Management Service.

[FR Doc. 03-2353 Filed 1-31-03; 8:45 am]

BILLING CODE 8320-01-P